SMALL BUSINESS ADMINISTRATION

[Disaster Declaration #10927 and #10928]

Oklahoma Disaster Number OK-00012

AGENCY: U.S. Small Business Administration.

ACTION: Amendment 3.

SUMMARY: This is an amendment of the Presidential declaration of a major disaster for the State of Oklahoma (FEMA-1712-DR), dated July 7, 2007.

Incident: Severe Storms, Flooding, and Tornadoes.

Incident Period: June 10, 2007 through July 25, 2007.

EFFECTIVE DATE: August 3, 2007.

Physical Loan Application Deadline Date: Septemeber 5, 2007.

EIDL Loan Application Deadline Date: April 7, 2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Oklahoma, dated July 7, 2007 is hereby amended to include the following areas as adversely affected by the disaster:

Primary Counties:

Logan, Payne, Pontotoc, Seminole.

Contiguous Counties: Oklahoma:

Canadian, Coal, Creek, Garfield, Garvin, Hughes, Johnston, Kingfisher, Murray, Noble, Pawnee.

All other information in the original declaration remains unchanged.

(Catalog of Federal Domestic Assistance Numbers 59002 and 59008)

Herbert L. Mitchell,
Associate Administrator for Disaster Assistance.

[FR Doc. E7-15769 Filed 8-10-07; 8:45 am]

BILLING CODE 8025-01-P